DEPARTMENT OF LABOR

Employment and Training Administration

[TA-W-51,745]

Marion Plywood Corp., Marion, WI; Notice of Termination of Investigation

Pursuant to section 221 of the Trade Act of 1974, as amended, an investigation was initiated on May 14, 2003 in response to a petition filed by a company official on behalf of workers at Marion Plywood, Marion, Wisconsin.

The petitioner has requested that the petition be withdrawn. Consequently, further investigation would serve no purpose, and the investigation has been terminated.

Signed at Washington, DC this 13th day of June, 2003.
Linda G. Poole,
Certifying Officer, Division of Trade Adjustment Assistance.

[FR Doc. 03-16916 Filed 7-2-03; 8:45 am]

BILLING CODE 4510-30-P